FEDERAL RESERVE SYSTEM

Formations of, Acquisitions by, and Mergers of Bank Holding Companies; Correction

This notice corrects a notice (FR Doc. E6-3966) published on page 13976 of the issue for Monday, March 20, 2006.

Under the Federal Reserve Bank of Chicago heading, the entry for Capitol Bancorp, Ltd., Lansing, Michigan, is revised to read as follows:

A. Federal Reserve Bank of Chicago (Patrick M. Wilder, Assistant Vice President) 230 South LaSalle Street, Chicago, Illinois 60690-1414:

1. Capitol Bancorp, Ltd., Lansing, Michigan; to acquire 51 percent of the voting shares of Evansville Commerce Bank, Evansville, Indiana (in organization), and by Capital Development Bancorp Limited IV, Lansing, Michigan; to become a bank holding company by acquiring 51 percent of the voting shares of Evansville Commerce Bank (in organization), Evansville, Indiana.

Comments on this application must be received by April 13, 2006.

Board of Governors of the Federal Reserve System, March 22, 2006.
Robert deV. Frierson,
Deputy Secretary of the Board.

[FR Doc. E6-4353 Filed 3-24-06; 8:45 am]

BILLING CODE 6210-01-S